FEDERAL COMMUNICATIONS COMMISSION

Notice of Public Information Collection Being Reviewed by the Federal Communications Commission, Comments Requested

July 23, 2008.

SUMMARY: The Federal Communications Commission, as part of its continuing effort to reduce paperwork burdens, invites the general public and other Federal agencies to take this opportunity to comment on the following information collection, as required by the Paperwork Reduction Act of 1995 (PRA), Public Law No. 104-13. An agency may not conduct or sponsor a collection of information unless it displays a currently valid control number. Pursuant to the PRA, no person shall be subject to any penalty for failing to comply with a collection of information that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before September 29, 2008. If you anticipate that you will be submitting comments, but find it difficult to do so within the period of time allowed by this notice, you should advise the contact listed below as soon as possible.

ADDRESSES: Interested parties may submit all PRA comments by e-mail or U.S. post mail. To submit your comments by e-mail, send them to PRA@fcc.gov and/or Cathy.Williams@fcc.gov. To submit your comments by U.S. mail, mark them to the attention of Cathy Williams, Federal Communications Commission, Room 1-C823, 445 12th Street, SW., Washington, DC 20554.

FOR FURTHER INFORMATION CONTACT: For additional information about the information collection, contact Cathy Williams at (202) 418-2918 or send an e-mail to PRA@fcc.gov and/or Cathy.Williams@fcc.gov.

SUPPLEMENTARY INFORMATION: OMB Control Number: 3060-0761.

Title: Section 79.1 Closed Captioning of Video Programming, CG Docket No. 05-231.

Form Number: Not applicable.

Type of Review: Extension of a currently approved collection.

Respondents: Business or other for-profit entities; Individuals or households; and Not-for-profit entities.

Number of Respondents and Responses: 12,500 respondents; 50,950 responses.

Estimated Time per Response: 30 minutes (0.50 hours) to 10 hours.

Frequency of Response: Annual and on occasion reporting requirements; Third party disclosure requirement; Recordkeeping requirement.

Total Annual Burden: 202,215 hours.

Total Annual Cost: $500,000.

Obligation to Respond: Required to obtain or retain benefits. The statutory authority for this obligation is found at section 713 of the Communications Act of 1934, as amended, 47 U.S.C. 613, and implemented at 47 CFR 79.1.

Nature and Extent of Confidentiality: Confidentiality is an issue to the extent that individuals and households provide personally identifiable information, which is covered under the FCC's system of records notice, FCC/CGB-1, “Informal Complaints and Inquiries.”

Privacy Impact Assessment: The Privacy Impact Assessment for Informal Complaints and Inquiries was completed on June 28, 2007. It may be reviewed at http://www.fcc.gov/omd/privacyact/Privacy_Impact_Assessment.html.

Needs and Uses: On July 21, 2005, the Commission released Closed Captioning of Video Programming; Telecommunications for the Deaf, Inc. Petition for Rulemaking, Notice of Proposed Rulemaking (Closed Captioning Notice of Proposed Rulemaking), CG Docket No. 05-231, FCC 05-142; published at 70 FR 56150, September 26, 2005, which sought comment on several issues pertaining to the Commission's closed captioning rules (47 CFR 79.1), which require that, with some exceptions, all new English and Spanish language video programming, and 75 percent of “pre-rule” English and Spanish language programming, eventually be closed captioned. The Closed Captioning Notice of Proposed Rulemaking sought comment, inter alia, on measures to assist consumers by shortening the complaint process to allow consumers to file complaints directly with the Commission, rather than requiring that they first file their complaints with the video programming distributor. The Closed Captioning Notice of Proposed Rulemaking also sought comment on whether petitions for exemption from the closed captioning rules should be permitted (or required) to be filed electronically through the Commission's Electronic Comment Filing System, and whether video programming distributors should be required to submit compliance reports to the Commission in cases where the types of video programming that they air are still subject to a phase-in period, or where the final required amount of captioning post phase-in (e.g., pre-rule programming) is not 100 percent. Furthermore, the Closed Captioning Notice of Proposed Rulemaking sought comment on whether video programming distributors should be required to distribute contact information to their subscribers (if the video programming provider is a subscription service) and to place such information on their Web site, as well as providing it to the Commission for placement on its Web site.

Federal Communications Commission.
Marlene H. Dortch,
Secretary.

[FR Doc. E8-17580 Filed 7-30-08; 8:45 am]

BILLING CODE 6712-01-P